DEPARTMENT OF HEALTH AND HUMAN SERVICES

National Institutes of Health

Submission of OMB Review; Comment Request; Policies of Academic Institutions Regarding Tobacco Industry Research Funding

SUMMARY: Under the provision of section 3507(a)(1)(D) of the Paperwork Reduction Act of 1995, the National Cancer Institute (NCI), the National Institutes of Health (NIH) has submitted to the Office of Management and Budget (OMB) a request for review and approval of the information collection listed below. This proposed information collection was previously published in the Federal Register on March 13, 2002, pages 11347 and 11348 and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: Policies of Academic Institutions Regarding Tobacco Industry Research Funding. Type of Information Collection Request: New. Need and Use of Information Collection: This study will assess current administrative policies of U.S. medical schools and schools of public health regarding faculty acceptance of research funding from tobacco manufacturers and trade organizations. The primary objectives of the study are to assess how many institutions have a tobacco-specific research funding policy, their reasons for adopting or not adopting such a policy, and what the requirements of those policies are. The findings will provide valuable information concerning: (1) How academic institutions have responded to concerns about researchers' funding relationships in tobacco research, (2) administrators' attitudes towards research funding policies targeted at tobacco specifically; and (3) what types of requirements have been imposed on academic researchers regarding tobacco funding. Frequency of Response: Once. Affected Public: Individuals; academic institutions. Type of Respondents: Academic administrators. The annual reporting burden is as follows: Estimated Number of Respondents: 505; Estimated Number of Responses per Respondent: 1; Average Burden Hours Per Response: 75; and Estimated Total Annual Burden Hours Requested: 379. The annualized cost to respondents is estimated at: $32,215. There are no capital costs to report. There are no operating or maintenance costs to report.

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the Office of Management and Budget, Office or Regulatory Affairs, New Executive Office Building, Room 10235, Washington, DC 20530, Attention: Desk Officer for NIH. To request more information on the proposed project or to obtain a copy of the data collection plans and instruments, contact Dr. Mark Parascandola, Cancer Prevention Fellow, OPO, DCP, NCI, NIH, 6130 Executive Boulevard, Suite 3109, Bethesda, MD 20892, or call non-toll-free number (301) 594-1576 or E-mail your request, including your address to: paramark@mail.nih.gov.

Comments Due Date: Comments regarding this information collection are best assured of having their full effect if received within 30 days of the date of this publication.

Dated: March 18, 2003
Reesa L. Nichols,
NCI Project Clearance Liaison.

[FR Doc. 03-7155 Filed 3-25-03; 8:45 am]

BILLING CODE 4140-01-M